DEPARTMENT OF STATE

[Public Notice: 9280]

Culturally Significant Object Imported for Exhibition Determinations: “Sublime Beauty: Raphael's `Portrait of a Lady With a Unicorn' ” Exhibition

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the object to be included in the exhibition “Sublime Beauty: Raphael's `Portrait of a Lady with a Unicorn,' ” imported from abroad for temporary exhibition within the United States, is of cultural significance. The object is imported pursuant to a loan agreement with the foreign owner or custodian. I also determine that the exhibition or display of the exhibit object at the Cincinnati Art Museum, Cincinnati, Ohio, from on or about October 3, 2015, until on or about January 3, 2016, at the Fine Arts Museums of San Francisco, Legion of Honor, San Francisco, California, from on or about January 9, 2016, until on or about April 10, 2016, and at possible additional exhibitions or venues yet to be determined, is in the national interest. I have ordered that Public Notice of these Determinations be published in the Federal Register.

FOR FURTHER INFORMATION CONTACT: For further information, including a description of the imported object, contact the Office of Public Diplomacy and Public Affairs in the Office of the Legal Adviser, U.S. Department of State (telephone: 202-632-6471; email: section2459@state.gov). The mailing address is U.S. Department of State, L/PD, SA-5, Suite 5H03, Washington, DC 20522-0505.

Dated: September 17, 2015.
Kelly Keiderling,
Principal Deputy Assistant Secretary, Bureau of Educational and Cultural Affairs, Department of State.

[FR Doc. 2015-24039 Filed 9-21-15; 8:45 am]

BILLING CODE 4710-05-P